DEPARTMENT OF ENERGY

Federal Energy Regulatory Commission

[[Project No. 12690-003]

Public Utility District No. 1 of Snohomish County, WA; Notice of Technical Meeting To Discuss Information and Monitoring Needs for a License Application for a Pilot Project

March 4, 2010.

a. Type of Application: Draft License Application for Pilot Project.

b. Project No.: 12690-003.

c. Applicant: Public Utility District No. 1 of Snohomish County, Washington (Snohomish PUD).

d. Name of Project: Admiralty Inlet Pilot Tidal Project.

e. Location: On the east side of Admiralty Inlet in Puget Sound, Washington, about 1 kilometer west of Whidbey Island, entirely within Island County, Washington.

f. Filed Pursuant to: 18 CFR 5.3 of the Commission's regulations.

g. Applicant Contact: Steven J. Klein, Public Utility District of Snohomish County, Washington, P.O. Box 1107, 2320, California Street, Everett, WA 98206-1107; (425) 783-8473.

h. FERC Contact: David Turner (202) 502-6091; e-mail at david.turner@ferc.gov.

i. Project Description: The proposed Admiralty Inlet Pilot Tidal Project would consist of (1) Two 10-meter, 500-kilowatt (kW) Open-Centre Turbines supplied by OpenHydro Group Ltd., mounted on completely submerged gravity foundations; (2) two 250-meter service cables connected at a subsea junction box or spliced to a 0.5-kilometer subsea transmission cable, connecting to a cable termination vault about 50 meters from shore; (3) two 81-meter-long buried conduits containing the two DC transmission lines from the turbines and connecting to a power conditioning and control building; (4) a 140-meter long buried cable from the control building to the grid; and (5) appurtenant facilities for operation and maintenance. The estimated annual generation of the project is 383,000 kilowatt-hours.

j. Meeting Purpose and Schedule: On December 31, 2009, Snohomish PUD filed a Notice of Intent and request for waivers of certain regulations of the Federal Energy Regulatory Commission's (Commission) Integrated Licensing Process to expedite processing of a license application for the Admiralty Inlet Pilot Tidal Project.

Commission staff will hold a technical meeting to scope issues and to discuss information and monitoring needs for the license application. At the technical meeting, Commission staff will focus the discussion on the information gaps that need to be addressed to ensure that sufficient information exists for the Commission to make a determination on whether the proposed project meets the criteria for a pilot project and for processing a license application for a pilot project once it is filed with the Commission.

All interested individuals, organizations, and agencies are invited to attend the meeting. The time and location of the meeting is as follows: Monday, April 12, 2010, 8:30 a.m. (local time), PUD Electric Building Headquarters, 2320 California Street, Everett, Washington.

The meetings will be recorded by a stenographer and will become part of the formal record of the Commission proceeding on the project.

Kimberly D. Bose,
Secretary.

[FR Doc. 2010-5207 Filed 3-10-10; 8:45 am]

BILLING CODE 6717-01-P